DEPARTMENT OF JUSTICE

Drug Enforcement Administration

[Docket No. DEA-392]

Manufacturer of Controlled Substances Registration: PCAS-Nanosyn, LLC

ACTION: Notice of registration.

SUMMARY: PCAS-Nanosyn, LLC applied to be registered as a manufacturer of certain basic classes of narcotic and non-narcotic controlled substances. The DEA grants PCAS-Nanosyn, LLC registration as a manufacturer of those controlled substances.

SUPPLEMENTARY INFORMATION: By notice dated April 21, 2014, and published in the Federal Register on April 30, 2014, 79 FR 24452, PCAS-Nanosyn, LLC, 3331-B Industrial Drive, Santa Rosa, California 95403, applied to be registered as a manufacturer of certain basic classes of narcotic or non-narcotic controlled substances. No comments or objections have been received.

The Drug Enforcement Administration (DEA) has considered the factors in 21 U.S.C. 823(a) and determined that the registration of PCAS-Nanosyn, LLC to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of narcotic and non-narcotic controlled substances listed:

Controlled substance | Schedule
Amphetamine (1100) | II
Methamphetamine (1105) | II
Methylphenidate (1724) | II
Phencyclidine (7471) | II
Codeine (9050) | II
Oxycodone (9143) | II
Hydromorphone (9150) | II
Hydrocodone (9193) | II
Methadone (9250) | II
Morphine (9300) | II
Oripavine (9330) | II
Oxymorphone (9652) | II
Fentanyl (9801) | II

The company is a contract manufacturer. At the request of the company's customers, it manufactures derivatives of controlled substances only in bulk form.

Dated: August 19, 2014.
Joseph T. Rannazzisi,
Deputy Assistant Administrator.

[FR Doc. 2014-20196 Filed 8-25-14; 8:45 am]

BILLING CODE 4410-09-P